DEPARTMENT OF DEFENSE

Department of the Air Force

US Air Force Academy Board of Visitors Meeting

AGENCY: Department of the Air Force, U.S. Air Force Academy Board of Visitors, DoD.

ACTION: Notice of meeting.

SUMMARY: Pursuant to 10 U.S.C. 9355, the U.S. Air Force Academy (USAFA) Board of Visitors (BoV) will hold a meeting via teleconference on February 8, 2007. The purpose of the meeting is to review morale and discipline, curriculum, instruction, physical equipment, fiscal affairs, academic methods, and other matters relating to the Academy.

For the general public, a teleconference room will be set up in the Pentagon, Room 5E225. Members of the public wishing to attend must arrive no later than one hour prior to the start of the meeting. Entry to the Pentagon will be through the Pentagon Metro entrance. Two forms of photo identification (ID) are required for building entry, one of which must be a state- or federal-issued picture ID.

The meeting will be open to the public. Public attendance at this USAFA BoV meeting shall be accommodated on a first-come, first-served basis up to the reasonable and safe capacity of the teleconference room. In addition, any member of the public wishing to provide input to the USAFA BoV should submit a written statement in accordance with 41 CFR 102-3.140(c) and section 10(a)(3) of the Federal Advisory Committee Act (FACA) and the procedures described in this paragraph. Written statements should be no longer than two type-written pages and must address the following details: The issue, discussion, and a recommended course of action. Supporting documentation may also be included as needed to establish the appropriate historical context and to provide any necessary background information. Written statements can be submitted to the Designated Federal Officer at the address detailed below, at any point, however, if a written statement is not received at least 10 days before the first day of the meeting which is the subject of this notice, then it may not be provided to, or considered by, the BoV until its next open meeting. The Designated Federal Officer will review all timely submissions with the BoV Chairperson and ensure they are provided to members of the BoV before the meeting that is the subject of this notice. For the benefit of the public, rosters that list the names of BoV members and any releasable materials presented during this BoV meeting shall be made available upon request.

After review of written comments, the BoV Chairperson and Designated Federal Officer may choose to invite the submitter of the comments to orally present their issue during an open portion of this BoV meeting or a future meeting. Members of the BoV may also petition the Chairperson to allow specific persons to make oral presentations before the BoV. Any oral presentations before the BoV shall be in accordance with 41 CFR 102-3.140(c), section 10(3) of FACA, and this paragraph. The Designated Federal Officer and BoV Chairperson may, if desired, allot a specific amount of time for members of the public to present their issue for BoV review and discussion. Direct questioning of BoV members or meeting participants by the public is not permitted except with the approval of the Designated Federal Officer and Chairperson.

DATES: The U.S. Air Force Academy Board of Visitors will hold a meeting via teleconference on February 8, 2007.

FOR FURTHER INFORMATION CONTACT: For further information or to attend this BoV meeting, contact Major Glenn Mayes, Chief, USAFA Programs Assessment, Directorate of Airman Development and Sustainment, Deputy Chief of Staff, Manpower and Personnel, AF/A1DOA, 1040 Air Force Pentagon, Washington, DC 20330-1040, (703) 697-8650.

Bao-Anh Trinh,
Air Force Federal Register Liaison Officer.

[FR Doc. E7-1492 Filed 1-30-07; 8:45 am]

BILLING CODE 5001-05-P